NATIONAL AERONAUTICS AND SPACE ADMINISTRATION

48 CFR Parts 1803 and 1852

NASA Inspector General Hotline Posters

AGENCY: National Aeronautics and Space Administration (NASA).

ACTION: Proposed rule.

SUMMARY: This is a proposed rule to amend the NASA FAR Supplement (NFS) to require NASA contractors to display “hotline posters”on contracts exceeding $5,000,000 and performed at contractor facilities in the United States.

DATES: Comments should be submitted on or before July 21, 2000.

ADDRESSES: Interested parties should submit written comments to Paul Brundage, NASA Headquarters Office of Procurement, Contract Management Division (Code HK), Washington, DC 20456-0001. Comments may also be submitted by email to pbrundage@hq.nasa.gov.

FOR FURTHER INFORMATION CONTACT: Paul Brundage, (202) 358-0481.

SUPPLEMENTARY INFORMATION:

A. Background

NASA's Office of Inspector General (IG) has requested that NASA contractors be required to display “hotline posters” in contractor facilities performing work on some NASA contracts. Foreign contracts and contracts less than $5,000,000 would be exempt. This proposed rule would require contractors to obtain from the NASA IG “hotline posters” and to post them in facilities where and when work is performed on an applicable NASA contract. By waiver from Part 12, NASA might also impose this requirement on a case-by-case basis in contracts for commercial items when unusual circumstances warrant. An example of such circumstances might include procurements involving extraordinary concerns about the safety of human life.

B. Regulatory Flexibility Act

This proposed rule is not expected to have a significant economic impact on a substantial number of small business entities within the meaning of the Regulatory Flexibility Act (5 U.S.C. 601 et seq.) because it only affects small business entities with contracts exceeding $5,000,000 and the NASA IG will provide the posters at no direct cost to contractors.

C. Paperwork Reduction Act

The Paperwork Reduction Act does not apply because this proposed rule does not impose information collection requirements that require the approval of the Office of Management and Budget under 44 U.S.C. 3501, et seq.

Lists of Subjects in 48 CFR Parts 1803 and 1852

Government procurement.

Tom Luedtke,
Associate Administrator for Procurement.

Accordingly, 48 CFR Parts 1803 and 1852 are proposed to be amended as follows:

1. The authority citation for 48 CFR Parts 1803 and 1852 continues to read as follows:

Authority: 42 U.S.C. 2473(c)(1).

PART 1803—IMPROPER BUSINESS PRACTICES AND PERSONAL CONFLICTS OF INTEREST

2. Add Subpart 1803.70 to read as follows:

Subpart 1803.70—IG Hotline Posters

1803.7000 Policy.

1803.7001 Contract clause.

Subpart 1803.70—IG Hotline Posters

1803.7000 Policy.

NASA requires contractors to display NASA hotline posters prepared by the NASA Office of Inspector General on those contracts specified in 1803.7001, so that employees of the contractor having knowledge of waste, fraud, or abuse, can readily identify a means to contact NASA's IG.

1803.7001 Contract clause.

Contracting officers must insert the provision at 1852.203-70, Display of Inspector General Hotline Posters, in solicitations and contracts expected to exceed $5,000,000 and performed at contractor facilities in the United States.

PART 1852—SOLICITATION PROVISIONS AND CONTRACT CLAUSES

3. Add section 1852.203-70 to read as follows:

1852.203-70 Display of Inspector General Hotline Posters.

As prescribed in 1803.7001, insert the following clause:

Display of Inspector General Hotline Posters

(Date)

(a) The Contractor shall display prominently in common work areas within business segments performing work under this contract, Inspector General Hotline Posters available under paragraph (b) of this clause.

(b) Inspector General Hotline Posters may be obtained from NASA Office of Inspector General, Code W, Washington, DC, 20546-0001, (202) 358-1220.

(End of clause)

[FR Doc. 00-12781 Filed 5-19-00; 8:45 am]

BILLING CODE 7510-01-M